DEPARTMENT OF ENERGY

Federal Energy Regulatory Commission

[Docket No. EL01-11-00]

Lester C. Reed, Complainant, v. Georgia Power Company, Respondent; Notice of Complaint

October 31, 2000.

Take notice that on October 27, 2000, pursuant to Rule 206 of the Federal Energy Regulatory Commission's (FERC or Commission) Rules of Practice and Procedure, 18 CFR 385.206, Lester C. Reed filed a complaint regarding certain actions and inactions by the Georgia Power Corporation in the operation of the Sinclair Dam (Project No. 1951) that are alleged to be in violation of its operating license. These actions and inactions allegedly damaged Mr. Reed and numerous citizens of the United States by reducing their enjoyment of the Project and reducing home values. Mr. Reed is requesting that the Commission enforce the provisions of the license agreement, institute procedures to prevent re-occurrence of the non-compliance, order payment of damages to the citizens and communities who were damaged by Georgia Power's alleged negligence in failing to follow the provisions of the license agreement and apply sanctions, monetary and non-monetary, to Georgia Power for failure to follow the operating license.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 16, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before November 16, 2000. Beginning November 1, 2000, comments and protests may be filed electronically via the internet in lieu of paper. See, 18 CFR 385.2001(a)(1)(iii) and the instructions on the Commission's web site at http://www.ferc.fed.us/efi/dorbell.htm.

David P. Boergers,
Secretary.

[FR Doc. 00-28378 Filed 11-3-00; 8:45 am]

BILLING CODE 6717-01-M